DEPARTMENT OF THE INTERIOR

Bureau of Land Management

[UT-912-02-1120-PG-24-1A]

Call for Nomination on Utah Resource Advisory Council (RAC)

AGENCY: Bureau of Land Management, Interior.

ACTION: Call for nomination on the Utah Resource Advisory Council (RAC).

SUMMARY: The purpose of this notice is to solicit public nominations for a vacancy which occurred on the Utah Resource Advisory Council (RAC). Utah residents with an interest and background in commercial recreation or oil and gas development are being sought to fill this vacancy on the 15-person Council which has occurred due to the resignation of one of its members. The person selected will serve out the remaining balance of a 3-year term that will continue through September 2003.

Nominees will be evaluated based on their experience or knowledge of the geographic area; education, training and/experience; and, their experience in working with disparate groups to achieve collaborative solutions. All nominations must be accompanied by letters of reference from represented interests or organizations, a completed background information nomination form, as well as any other information that speaks to the nominee's qualifications. The Bureau of Land Management, along with the Governor's Office, will forward the nominations to the Secretary of the Interior, who will make the appointment to the Council.

Resource Advisory Councils were established and authorized in 1995 by the Secretary of the Interior to provide advice and recommendations to the Bureau of Land Management on management of public lands.

FOR FURTHER INFORMATION: Anyone interested in requesting a nomination form should inquire at the Bureau of Land Management, Utah State Office, Attention: Sherry Foot, 324 South State Street, Salt Lake City, Utah 84111; telephone (801) 539-4195. All nominations must be received no later than close of business January 4, 2002.

Dated: November 16, 2001.
Robert Bennett,
Associate State Director.

[FR Doc. 01-30614 Filed 12-10-01; 8:45 am]

BILLING CODE 4310-$$-P